DEPARTMENT OF COMMERCE

International Trade Administration

[A-583-842]

Raw Flexible Magnets From Taiwan: Postponement of Preliminary Determination of Antidumping Duty Investigation

AGENCY: Import Administration, International Trade Administration, Department of Commerce.

EFFECTIVE DATE: February 7, 2008.

FOR FURTHER INFORMATION CONTACT: Kristin Case or Catherine Cartsos, AD/CVD Operations, Office 5, Import Administration, International Trade Administration, U.S. Department of Commerce, 14th Street and Constitution Avenue, NW., Washington, DC 20230; telephone: (202) 482-3174 and (202) 482-1757, respectively.

SUPPLEMENTARY INFORMATION:

Postponement of Preliminary Determination

On October 11, 2007, the Department of Commerce (the Department) initiated the antidumping duty investigation of raw flexible magnets from Taiwan. See Notice of Initiation of Antidumping Duty Investigations: Raw Flexible Magnets from the People's Republic of China and Taiwan, 72 FR 59071 (October 18, 2007). The notice of initiation stated that the Department would issue its preliminary determinations for this investigation no later than 140 days after the date of issuance of the initiation (e.g., February 28, 2008), in accordance with section 733(b)(1)(A) of the Tariff Act of 1930, as amended (the Act).

On January 16, 2008, the petitioner, Magnum Magnetics Corporation, made a timely request pursuant to 19 CFR 351.205(e) for a postponement of the preliminary determination with respect to Taiwan. The petitioner requested postponement of the preliminary determination in order to allow the Department additional time to address several complex issues such as the appropriate model-matching characteristics.

For the reason identified by the petitioner and because there are no compelling reasons to deny the request, the Department is postponing the deadline for the preliminary determination with respect to Taiwan under section 733(c)(1)(A) of the Act by 50 days to April 18, 2008. The deadline for the final determination will continue to be 75 days after the date of the preliminary determination, unless extended.

This notice is issued and published pursuant to section 733(c)(2) of the Act and 19 CFR 351.205(f)(1).

Dated: January 31, 2008.
David M. Spooner,
Assistant Secretary for Import Administration.

[FR Doc. E8-2285 Filed 2-6-08; 8:45 am]

BILLING CODE 3510-DS-P